DEPARTMENT OF COMMERCE

National Oceanic and Atmospheric Administration

RIN 0648-XG61

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject programmatic Exempted Fishing Permit (EFP) application for the Study Fleet Program contains all of the required information and warrants further consideration. Study Fleet projects are managed by the Northeast Fisheries Science Center (NEFSC) and funded under the Northeast Cooperative Research Partners Program (NCRPP) contracts and Research Set-Aside (RSA) grants to regional institutions. The programmatic EFP would grant exemptions from minimum fish size and possession and landing limits. However, further review and consultation may be necessary before a final determination is made to issue the EFP. Therefore, NMFS announces that the Assistant Regional Administrator proposes to issue a programmatic EFP that would allow up to 30 vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before April 9, 2008.

ADDRESSES: Comments on this notice may be submitted by e-mail. The mailbox address for providing e-mail comments is StudyFleetEFP@noaa.gov. Include in the subject line of the e-mail comment the following document identifier: “Comments on NEFSC Study Fleet Programmatic EFP.” Written comments should be sent to Patricia A. Kurkul, Regional Administrator, NMFS, Northeast Regional Office, 1 Blackburn Drive, Gloucester, MA 01930. Mark the outside of the envelope “Comments on NEFSC Study Fleet Programmatic EFP.” Comments may also be sent via facsimile (fax) to (978) 281-9135.

FOR FURTHER INFORMATION CONTACT: Moira Kelly, Fishery Policy Analyst, phone: 978-281-9218, fax: 978-281-9135.

SUPPLEMENTARY INFORMATION: The EFP would programmatically exempt federally permitted commercial fishing vessels from the regulations detailed below participating in the Study Fleet Program and operating under projects managed by the NEFSC and funded by NCRPP contracts and Research-Set-Aside (RSA) grants. The programmatic EFP would cover two tiers of exemptions. The first tier would exempt vessels operators and technicians from minimum size and possession limits for the time it takes to weigh and measure fish that would otherwise be discarded. The second tier would exempt vessels from minimum size and possession and landing limits of otherwise prohibited fish. The programmatic EFP would cover the following Study Fleet projects, the vessels associated with such projects, and the study fleet technicians and vessel operators:

(1) NEFSC - NCRPP Groundfish Fleet Northern (three vessels) and Southern (two vessels) trawlers, with up to five additional vessels.

(2) NEFSC - Groundfish/Loligo Fleet (three vessels, up to three additional vessels).

(3) NEFSC - University of Massachusetts School for Marine Science and Technology (SMAST) - Cooperative Marine Education and Research (CMER) Southern New England (SNE) Yellowtail Flounder Fleet (three vessels).

(4) NEFSC - Gulf of Maine Research Institute (GMRI) - Monkfish Fleet (up to five vessels).

(5) SMAST - Georges Bank (GB) Multispecies Fleet (five vessels).

A project- and vessel-specific EFP, detailing all vessels involved in each the projects, would be granted to each vessel to facilitate this research. The EFP would specify under which restrictions and exemptions the vessel would be required to operate. The Tier 1 EFP would specify that the retention of otherwise prohibited fish is temporary only, and fish must be returned to the sea as quickly as possible, after weighing and measuring. The Tier 2 EFP would specify the limited amounts of otherwise prohibited fish that could be retained and landed.

The following table details the regulations that the participating vessels would be exempted from, and the number of at-sea days that vessels would be permitted to operate under the exemptions:

Study Fleet Project | # of Vessels | Discard Sampling at-sea days (Technician) | Discard Sampling at-sea days (Crew/Captain) | Biological Sampling at-sea days (Technician) | Biological Sampling at-sea days (Crew/Captain) | Exempted Regulations in 50 CFR part 648
NEFSC/NRCPP Groundfish Fleet | up to 10 | 100 | 50 | 0 | March - April samples 4-6 totes whole haddock | § 648.83(a)(3) NE multispecies minimum size Possession limits § 648.86(b) Atlantic cod § 648.86(c) Atlantic halibut § 648.86(e) White hake § 648.86(g) Yellowtail flounder § 648.86(j) GB winter flounder
NEFSC Groundfish/Loligo | up to 6 | 60 | 30 | 60 | 0 | All of the above, plus, if during closure of directed fishery, § 648.22(c) Incidental possession limit of Loligo
NEFSC/SMAST/CMER SNE Yellowtail Flounder | 3 | 30 | 90 | 30 | Monthly totes at least 100 fish each | § 648.83(a)(3) NE multispecies minimum size § 648.86(g)(1) SNE Yellowtail flounder possession limit
NEFSC/GMRI Monkfish | 5 | 80 | 160 | 80 | 0 | § 648.93 Monkfish minimum fish size § 648.94 Monkfish possession limit
SMAST GB Groundfish | 5 | 50 | 0 | 50 | 0 | Same as NEFSC/ NRCPP Groundfish Fleet Project

Tier 1

The first aspect of the project would temporarily exempt the Study Fleet vessels from all minimum size and possession limits for the time it takes to measure and weigh otherwise prohibited fish. This exemption would allow NEFSC to understand the issues that affect the accuracy of estimated discard weights and to improve analyses. The protocol under which the NEFSC staff and the vessel operators would conduct these measurements is not significantly different than the protocol currently used by NMFS-certified observers. Under this protocol, no other change to normal commercial fishing operators would occur.

Initially, NEFSC or partner Study Fleet technicians would be onboard the vessels to provide data entry training and to observe and report on sorting and discarding practices under normal fishing operations. On some subsequent trips, technicians would sort, weigh, and measure fish that are to be discarded, in a method that is consistent with current NEFSC observer protocols. An exemption is required because some discarded species would be on deck slightly longer than under normal sorting procedures. The goal is to identify sorting routines that would minimally impact the duration of catch processing, and technicians would return the fish to the water as soon as possible. On other trips, the vessel operators and crew would be responsible for sorting, weighing, and measuring the fish that are to be discarded from a random number of tows and trips, following the established protocol. These crew and operators would be trained in the protocol by the NEFSC or partner Study Fleet technicians and would return the fish to the water as soon as possible.

Tier 2

The second aspect of the programmatic EFP for the Study Fleet would allow more in-depth biological sampling to occur on various ages of fish by exempting vessels from minimum size, possession, and landing limits of species of interest. Some of the biological sampling would be done by a Study Fleet technician during a trip, as available during normal commercial fishing operations. That is, while a crew member is dressing a fish for storage, the Study Fleet technician would collect the stomach and gonads of that fish for later research. For this tier, vessels would be exempted from minimum size requirements and possession and landing limits, as applicable, in very limited circumstances. Vessel operators on specified trips, using marked totes, would collect fish to be provided to the NEFSC for biological sampling only.

Project-specific biological sampling to obtain maturity, fecundity, age, and growth data would require a separate EFP for possession and sampling of species of interest, including undersized individuals, possibly in excess of trip limits, where samples may be processed at sea or retained for delivery to research facilities on shore by the Study Fleet vessels. The current interest in enhanced biological sampling is in response to initial Study Fleet goals endorsed by the NCRPP and the New England Fishery Management Council's Research Steering Committee. The initial biological sampling program and protocol development would focus on obtaining haddock and yellowtail flounder samples to evaluate maturity and fecundity patterns that may be affected by recent strong year classes. Samples of large monkfish, large cod, and other species would be used to fill in gaps in port-based sampling. See below for detailed descriptions of catch estimates for each of the five Study Fleet projects. A small number of live fish would also be collected to support laboratory studies in survival.

Sampling would be done by NEFSC or partner Study Fleet technicians and by trained crew members. On trips where the technicians would be on board, standard NEFSC sampling protocols would be followed. None of the landed biological samples from these trips would be sold. On trips where technicians would not be on board, select vessel operators or crew would separate fish to be sampled by technicians in port. The EFP for biological sampling would allow fishermen to retain specified amounts of specific species in whole or round weight condition, including some undersized individuals, in marked totes, which would be delivered to Study Fleet technicians or local NMFS port agents for enumeration and measurement. It is anticipated that these whole fish may cause a vessel to exceed a regulatory trip limit. The EFP would exempt the vessels from the trip limits in limited situations so that the vessel is not disadvantaged when collecting biological samples.

NMFS would receive advance notification of specific plans for retention under this EFP. This notification would provide the vessel name and vessel operator, the number of marked totes that would be delivered, an estimate of the number of undersized individuals that would be retained, and an estimated time frame for the sampling trips. The amount of fish delivered to the Study Fleet technicians would not exceed five totes, or 700 lb (317.51 kg) per trip. Vessels fishing under this EFP would be required to call into the Interactive Voice Response system to identify the trip, following the standard EFP protocol. Each of the biological sampling projects is detailed below. Please see the table above for details on the regulations that would be exempted.

The NEFSC Groundfish and Groundfish and Loligo projects would involve sampling seven species on a maximum of 20 trips with technicians aboard. This sampling would not affect trip limits because the undersized fish would be discarded at sea. The estimated maximum discard weight of sampled sub-legal fish is 4,000 lb (1,814.37kg) per species per trip (100 lengths X 20 trips = 2,000 individuals X mean weight of 2 lb (0.91 kg) = 4,000 lb (1,814.37 kg) per species), not to exceed 8,000 lb (3628.74 kg) per species per trip if two statistical areas are sampled on the same trip.

Also under the NEFSC Groundfish project, GB haddock maturity and fecundity data would be collected. NEFSC is requesting an EFP to collect one tote of undersized haddock for sampling. The vessels would deliver up to five totes of fish (600 lb, 272.16 kg), four of which would contain legal sized fish, and one of which would contain undersized fish. The fish would be whole and iced. The total amount of GB haddock that would be authorized under this EFP would not exceed 1,300 lb (589.67 kg). NEFSC staff would meet the captain at the dock to collect the fish. None of the fish would be sold.

The NEFSC/SMAST/CMER SNE Yellowtail Flounder project would obtain 100 yellowtail flounder per month during the April through August spawning period on three vessels, up to 1,500 fish total, followed by non-spawning month sampling for 7 months at 25 fish per month per vessel, for up to an additional 525 fish. The resulting length frequency and maturity sampling would account for approximately 2,025 undersized yellowtail flounder, or 2,500 lb (1133.98 kg).

The GMRI Monkfish project would require the biological sampling EFP to allow fishermen to retain the entire monkfish catch on the last tow for two trips per month for eight months on five vessels, resulting in 80 separate samples, not to exceed 550 lb (249.48 kg) of monkfish per sample. Each sample would be delivered to a GMRI sampler. Legal sized fish would be allowed to be sold by the vessel, but undersized fish would be retained by GMRI. It is estimated that the amount of undersized fish for the 80 samples would not exceed 4,800 lb (2177.24 kg).

The SMAST GB Groundfish project is requesting the following under the biological sampling EFP: Up to 100 monkfish (750 lb, 340.19 kg) for age and growth, not to exceed 20 monkfish (150 lb, 68.04 kg) per trip; 50 whole skates (150 lb, 68.04 kg), not to exceed 10 (30 lb, 13.61 kg) per trip; and, 10 cod (100 lb, 45.36 kg), not to exceed 2 (20 lb, 9.07 kg) per trip. In addition, 100 lengths of kept fish and 100 lengths of discarded fish of each of the following species would be collected: Cod, winter flounder, grey sole, yellowtail flounder, haddock, monkfish, and American plaice.

The applicant may make requests to NMFS for minor modifications and extensions to the EFP throughout the year. EFP modifications and extensions may be granted by NMFS without further notice if they are deemed essential to facilitate completion of the proposed research and result in only a minimal change in the scope or impact of the initially approved EFP request. In accordance with NOAA Administrative Order 216-6, a Categorical Exclusion or other appropriate NEPA document would be completed prior to the issuance of the EFP. Further review and consultation may be necessary before a final determination is made to issue the EFP. After publication of this document in the Federal Register, the EFP, if approved, may become effective following a 15-day public comment period.

Authority: 16 U.S.C. 1801 et seq.

Dated: March 20, 2008.
Emily H. Menashes,
Acting Director, Office of Sustainable Fisheries, National Marine Fisheries Service.

[FR Doc. E8-6009 Filed 3-24-08; 8:45 am]

BILLING CODE 3510-22-S